FEDERAL COMMUNICATIONS COMMISSION

Notice of Public Information Collection(s) Being Reviewed by the Federal Communications Commission

August 17, 2004.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 24, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION: OMB Control No.: 3060-1007.

Title: Streamlining and Other Revisions of part 25 of the Commission's Rules.

Form No: Not applicable.

Type of Review: Revision of a currently approved collection.

Respondents: Business or other for-profit.

Number of Respondents: 28.

Estimated Time per Response: .25-2 hours.

Frequency of Response: On occasion, annual and other reporting requirements.

Total Annual Burden: 9,688 hours.

Total Annual Cost: $95,194,000.

Privacy Act Impact Assessment: Not applicable.

Needs and Uses: On April 16, 2004, the FCC released a Fourth Report and Order in IB Docket Nos. 02-34 and 00-248, FCC 04-92. In this rulemaking, the Commission extended the mandatory electronic filing requirement to all space station and earth station applications, related pleadings, and other filings governed by part 25. Direct Broadcast Satellite (DBS) and Digital Audio Radio Service (DARS) licensees can now use a streamlined procedure when relocating satellites for fleet management purposes. Currently, this procedure is only limited to Geostationary Satellite Orbit (GSO) licensees. Under this streamlined procedure, the DBS and DARS licensees may modify its license without prior authorization, but upon 30 day prior notice to the Commission and any potentially affected licensed spectrum user. This will enable the Commission to act on DBS fleet management modifications faster.

Federal Communications Commission.
Marlene H. Dortch,
Secretary.

[FR Doc. 04-19466 Filed 8-24-04; 8:45 am]

BILLING CODE 6712-01-P